DEPARTMENT OF TRANSPORTATION

Federal Aviation Administration

14 CFR Part 39

[Docket No. FAA-2004-19527; Directorate Identifier 2004-NM-71-AD]

RIN 2120-AA64

Airworthiness Directives; Airbus Model A310 Series Airplanes; and Model A300 B4-600, B4-600R, and F4-600R Series Airplanes, and Model C4 605R Variant F Airplanes (Collectively Called A300-600)

AGENCY: Federal Aviation Administration (FAA), DOT.

ACTION: Notice of proposed rulemaking (NPRM).

SUMMARY: The FAA proposes to adopt a new airworthiness directive (AD) for certain Airbus Model A310 series airplanes; and Model A300 B4-600, B4-600R, and F4-600R series airplanes, and Model C4 605R Variant F airplanes (collectively called A300-600). This proposed AD would require relocating contactor 9DG located at rack (relay box) 107VU and adding protective sleeves to the two wire (cable) looms near the door hinge of rack 107VU. This proposed AD is prompted by reports that interference was noticed during production between the wire looms located near the door hinge of rack 107VU and the terminals of contactor 9DG. We are proposing this AD to prevent possible short circuits in the wire looms supplying the fuel pump systems and the pitot probe heating system, which could lead to a possible loss of function of flight-critical systems and reduced controllability of the airplane.

DATES: We must receive comments on this proposed AD by December 6, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street SW., room PL-401, on the plaza level of the Nassif Building, Washington, DC.

FOR FURTHER INFORMATION CONTACT: Technical information: Dan Rodina, Aerospace Engineer, International Branch, ANM-116, FAA, Transport Airplane Directorate, 1601 Lind Avenue, SW., Renton, Washington 98055-4056; telephone (425) 227-2125; fax (425) 227-1149.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19527; Directorate Identifier 2004-NM-71-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is on the plaza level of the Nassif Building at the DOT street address stated in the ADDRESSES section. Comments will be available in the AD docket shortly after the DMS receives them.

Discussion

The Direction Générale de l'Aviation Civile (DGAC), which is the airworthiness authority for France, notified us that an unsafe condition may exist on certain Airbus Model A310 series airplanes; and Model A300 B4-600, B4-600R, and F4-600R series airplanes, and Model C4 605R Variant F airplanes (collectively called A300-600). The DGAC advises that it has received reports that interference was noticed during production between two wire (cable) looms located near the door hinge of rack (relay box) 107VU and the terminals of contactor 9DG located at rack 107VU. This condition could also be present on any airplane that has embodied in service any revision of Airbus Service Bulletin A310-30-2030 or Service Bulletin A300-30-6017. This condition, if not corrected, could result in short circuits in the wire looms supplying the fuel pump systems and the pitot probe heating system, which could lead to a possible loss of function and reduced controllability of the airplane.

Relevant Service Information

Airbus has issued Service Bulletin A310-24-2087 (for Model A310 series airplanes); and Service Bulletin A300-24-6081 (for Model A300 B4-600, B4-600R, and F4-600R series airplanes; and Model C4 605R Variant F airplanes (collectively called A300-600)); both Revision 01, both dated December 18, 2003. The service bulletins describe procedures for relocating contactor 9DG and adding protective sleeves to the two wire looms located near the door hinge of rack 107VU. Accomplishing the actions specified in the service information is intended to adequately address the unsafe condition. The DGAC mandated the service information and issued French airworthiness directive F-2003-412, dated November 12, 2003, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are proposing this AD, which would require accomplishing the actions specified in the service information described previously.

Costs of Compliance

This proposed AD would affect about 167 airplanes of U.S. registry. The proposed actions would take about 3 work hours per airplane, at an average labor rate of $65 per work hour. Required parts would cost about $290 per airplane. Based on these figures, the estimated cost of the proposed AD for U.S. operators is $80,995, or $485 per airplane.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2004-19527; Directorate Identifier 2004-NM-71-AD.

Comments Due Date

(a) The Federal Aviation Administration must receive comments on this AD action by December 6, 2004.

Affected ADs

(b) None.

Applicability

(c) This AD applies to Airbus Model A310 series airplanes, as listed in Airbus Service Bulletin A310-24-2087, Revision 01, dated December 18, 2003; and Model A300 B4-600, B4-600R, and F4-600R series airplanes, and Model C4 605R Variant F airplanes (collectively called A300-600), as listed in Airbus Service Bulletin A300-24-6081, Revision 01, dated December 18, 2003; certificated in any category.

Unsafe Condition

(d) This AD was prompted by reports that interference was noticed during production between two wire (cable) looms located near the door hinge of rack (relay box) 107VU and the terminals of contactor 9DG located at rack 107VU. We are issuing this AD to prevent possible short circuits in the wire looms supplying the fuel pump systems and the pitot probe heating system, which could lead to a possible loss of function and reduced controllability of the airplane.

Compliance

(e) You are responsible for having the actions required by this AD performed within the compliance times specified, unless the actions have already been done.

Relocation of Contactor and Addition of Protective Sleeves

(f) Within 12 months after the effective date of this AD, relocate contactor 9DG located at rack 107VU and add protective sleeves to the two wire looms located at the door hinge of rack 107VU, by doing all actions in accordance with the Accomplishment Instructions of Airbus Service Bulletin A310-24-2087, Revision 01 (for Model A310 series airplanes); or Service Bulletin A300-24-6081, Revision 01 (for Model A300-600 series airplanes); both dated December 18, 2003; as applicable.

Actions Accomplished per Previous Issue of Service Bulletins

(g) Actions accomplished before the effective date of this AD in accordance with Airbus Service Bulletin A310-24-2087; or Airbus Service Bulletin A300-24-6081; both dated June 7, 2002; are considered acceptable for compliance with the corresponding actions specified in paragraph (f) of this AD.

Alternative Methods of Compliance (AMOCs)

(h) The Manager, International Branch, ANM-116, Transport Airplane Directorate, FAA, has the authority to approve AMOCs for this AD, if requested in accordance with the procedures found in 14 CFR 39.19.

Related Information

(i) French airworthiness directive F-2003-412, dated November 12, 2003, also addresses the subject of this AD.

Issued in Renton, Washington, on October 21, 2004.
Kalene C. Yanamura,
Acting Manager, Transport Airplane Directorate, Aircraft Certification Service.

[FR Doc. 04-24633 Filed 11-3-04; 8:45 am]

BILLING CODE 4910-13-P